DEPARTMENT OF ENERGY

Federal Energy Regulatory Commission

Combined Notice of Filings #2

Take notice that the Commission received the following electric rate filings:

Docket Numbers: ER17-1512-000.

Applicants: CinCap V, LLC.

Description: Tariff Cancellation: Cancellation of MBR Tariff to be effective 6/30/2017.

Filed Date: 5/1/17.

Accession Number: 20170501-5209.

Comments Due: 5 p.m. ET 5/22/17.

Docket Numbers: ER17-1513-000.

Applicants: Duke Energy Commercial Enterprises, Inc.

Description: Tariff Cancellation: Cancellation of MBR Tariff to be effective 6/30/2017.

Filed Date: 5/1/17.

Accession Number: 20170501-5210.

Comments Due: 5 p.m. ET 5/22/17.

Take notice that the Commission received the following electric securities filings:

Docket Numbers: ES17-19-000.

Applicants: ITC Great Plains, LLC.

Description: Application of ITC Great Plains, LLC under Section 204 of the Federal Power Act and Part 34 of the Commission's Regulations.

Filed Date: 4/27/17.

Accession Number: 20170427-5557.

Comments Due: 5 p.m. ET 5/18/17.

Docket Numbers: ES17-20-000.

Applicants: ITC Midwest LLC.

Description: Application of ITC Midwest LLC under Section 204 of the Federal Power Act and Part 34 of the Commission's Regulations.

Filed Date: 4/27/17.

Accession Number: 20170427-5567.

Comments Due: 5 p.m. ET 5/18/17.

Docket Numbers: ES17-21-000.

Applicants: International Transmission Company.

Description: Application of International Transmission Company under Section 204 of the Federal Power Act and Part 34 of the Commission's Regulations.

Filed Date: 4/27/17.

Accession Number: 20170427-5572.

Comments Due: 5 p.m. ET 5/18/17.

Docket Numbers: ES17-22-000.

Applicants: Michigan Electric Transmission Company, LLC.

Description: Application of Michigan Electric Transmission Company, LLC under Section 204 of the Federal Power Act and Part 34 of the Commission's Regulations.

Filed Date: 4/27/17.

Accession Number: 20170427-5585.

Comments Due: 5 p.m. ET 5/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2017.
Kimberly D. Bose,
Secretary.

[FR Doc. 2017-09115 Filed 5-4-17; 8:45 am]

BILLING CODE 6717-01-P